DEPARTMENT OF THE TREASURY

Fiscal Service

31 CFR Part 344

[Department of the Treasury Circular, Public Debt Series No. 3-72]

U.S. Treasury Securities—State and Local Government Series; Extension of Comment Period

AGENCY: Bureau of the Public Debt, Fiscal Service, Treasury.

ACTION: Notice of proposed rulemaking; extension of comment period.

SUMMARY: The Department of the Treasury is extending the comment period for the notice of proposed rulemaking published September 30, 2004, proposing revisions of the regulations governing State and Local Government Series (SLGS) securities. SLGS securities are non-marketable Treasury securities that are only available for purchase by issuers of tax-exempt securities. The notice of proposed rulemaking provided for a comment period to end on November 1, 2004. Treasury is extending the comment period to November 16, 2004, in response to industry requests for more time to provide comments.

DATES: Comments must be received no later than November 16, 2004.

ADDRESSES: You may submit comments, identified by Docket Number BPD-02-04, by any of the following methods:

• Federal eRulemaking Portal: http://www.regulations.gov. Follow the instructions for submitting comments.

• Agency Web Site: http://www.publicdebt.treas.gov. Follow the instructions for submitting comments via e-mail to opda-sib@bpd.treas.gov.

• E-mail: opda-sib@bpd.treas.gov. Include Docket Number BPD-02-04 in the subject line of the message.

• Fax: 304-480-5277.

• Mail: Keith Rake, Deputy Assistant Commissioner, Office of the Assistant Commissioner, Bureau of the Public Debt, Department of the Treasury, P.O. Box 396, Parkersburg, WV 26101-0396, or Edward Gronseth, Deputy Chief Counsel, Elizabeth Spears, Senior Attorney, or Brian Metz, Attorney-Adviser, Office of the Chief Counsel, Bureau of the Public Debt, Department of the Treasury, P.O. Box 1328, Parkersburg, WV 26106-1328.

• Hand Delivery/Courier: Keith Rake, Deputy Assistant Commissioner, Office of the Assistant Commissioner, Bureau of the Public Debt, Department of the Treasury, 200 3rd St., Parkersburg, WV 26101, or Edward Gronseth, Deputy Chief Counsel, Elizabeth Spears, Senior Attorney, or Brian Metz, Attorney-Adviser, Office of the Chief Counsel, Bureau of the Public Debt, Department of the Treasury, 200 3rd St., Parkersburg, WV 26101.

Instructions: All submissions received must be addressed to the Bureau of the Public Debt and include the Docket Number for this notice of proposed rulemaking, BPD-02-04. All comments received will be posted without change to http://www.publicdebt.treas.gov. The posting will include any personal information that you provide in the submission.

FOR FURTHER INFORMATION CONTACT: Keith Rake, Deputy Assistant Commissioner, Office of the Assistant Commissioner, Bureau of the Public Debt, P.O. Box 396, Parkersburg, WV 26106-0396, (304) 480-5101, or by e-mail at opda-sib@bpd.treas.gov or Edward Gronseth, Deputy Chief Counsel, Elizabeth Spears, Senior Attorney, or Brian Metz, Attorney-Adviser, Office of the Chief Counsel, Bureau of the Public Debt, Department of the Treasury, P.O. Box 1328, Parkersburg, WV 26106-1328, (304) 480-8692, or by e-mail at opda-sib@bpd.treas.gov.

SUPPLEMENTARY INFORMATION: The notice of proposed rulemaking for which the comment period is being extended was published on September 30, 2004, at 69 FR 58756. In order to provide ample time for interested parties to review and comment on the notice of proposed rulemaking, the comment period is extended until November 16, 2004.

Dated: October 20, 2004.
Donald V. Hammond,
Fiscal Assistant Secretary.

[FR Doc. 04-23897 Filed 10-21-04; 10:19 am]

BILLING CODE 4810-39-P